DEPARTMENT OF ENERGY

Federal Energy Regulatory Commission

[Docket No. EL05-133-000]

City and County of San Francisco Complainant v. Pacific Gas and Electric Company, Respondent, Notice of Complaint and Motion for Issuance of Show Cause Proceeding

June 30, 2005

Take notice that on June 29, 2005, the City and County of San Francisco (City) tendered for filing a Complaint and Motion for Issuance of an Order to Show Cause against Pacific Gas and Electric Company (PG&E) pursuant to sections 205, 206, 306, 308, and 309 of the Federal Power Act, 16 U.S.C. 824d, 824e, 825e, 825g, and 825h and Rules 206 and 209 of the Rules of Practice and Procedure of the Commission (18 CFR 385.206, 209).

In its Complaint, City alleges that in June of 2004, PG&E improperly demanded that City pay PG&E $27.7 million for services rendered from July of 2000 through 2003 under a 1987 Interconnection Agreement, PG&E Revised Rate Schedule FERC No. 114 (Agreement) between City and PG&E. City states that PG&E demanded this amount in addition to the $47.2 million that City had already paid PG&E for service covering the same time period. City further states that the Agreement makes no provision for such a retroactive bill. City states that the practices by which PG&E seeks to recalculate its charges to City clearly do not conform to the Agreement. City further alleges that PG&E has improperly attempted to invoke the dispute resolution and arbitration provisions of the Agreement.

City certifies that copies of the complaint were served on PG&E as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protest must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern time on July 20, 2005.

Magalie R. Salas,
Secretary.

[FR Doc. E5-3561 Filed 7-6-05; 8:45 am]

BILLING CODE 6717-01-P